POSTAL REGULATORY COMMISSION

[Docket No. CP2024-72; Order No. 6817]

Competitive Price Changes

AGENCY: Postal Regulatory Commission.

ACTION: Notice.

SUMMARY: The Commission is recognizing a recently filed Postal Service document with the Commission concerning changes in rates and classifications of general applicability for competitive products. This notice informs the public of the filing, invites public comment, and takes other administrative steps.

DATES: Comments are due: December 15, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Summary of Changes

III. Initial Administrative Actions

IV. Ordering Paragraphs

I. Introduction

On November 22, 2023, the Postal Service filed notice with the Commission concerning changes in rates and classifications of general applicability for Competitive products.¹ The Postal Service represents that, as required by 39 CFR 3035.102(b) and 39 CFR 3035.104(b), the Notice includes an explanation and justification for the changes, the effective date, and a schedule of the changed rates. Notice at 1. The proposed changes will take effect no earlier than July 1, 2024. Id.

¹ USPS Notice of Changes in Rates and Classifications of General Applicability for Competitive Products, November 22, 2023 (Notice). Pursuant to 39 U.S.C. 3632(b)(2), the Postal Service is obligated to publish the Governors' Decision and record of proceedings in the Federal Register at least 30 days before the effective date of the new rates.

Attached to the Notice is Governors' Decision No. 23-6, which states the new prices are in accordance with 39 U.S.C. 3632 and 3633 and 39 CFR 3035.102-.104.² The Governors' Decision provides an analysis of the Competitive products' price and classification changes intended to demonstrate that the changes comply with 39 U.S.C. 3633 and 39 CFR part 3035. Governors' Decision No. 23-6 at 1. The Attachment to the Governors' Decision No. 23-6 sets forth the classification and price changes and includes draft Mail Classification Schedule (MCS) language for Competitive products of general applicability.

² Notice, Decision of the Governors of the United States Postal Service on Changes in Rates and Classifications of General Applicability for Competitive Products (Governors' Decision No. 23-6), at 1 (Governors' Decision No. 23-6).

In addition, the Notice includes a non-public annex showing FY 2024 projected volumes, revenues, attributable costs, contribution, and cost coverage for each product. See Notice at 1. The Postal Service also filed supporting forecast data and price adjustment calculations for each affected product as required by Order No. 1062. Id. at 2.

The Notice also includes an application for non-public treatment of the unredacted version of the annex to the Governors' Decision, as well as the supporting materials for the data.³ Id.

³ See United States Postal Service Notice of Errata to Application for Nonpublic Treatment Accompanying USPS Notice of Changes in Rates and Classifications of General Applicability for Competitive Products, November 17, 2023.

II. Summary of Changes

The Notice proposes establishing Zone 10 rates for Priority Mail Express, Priority Mail, and USPS Ground Advantage. Id. at 2. The rates will apply to packages that have Alaska, Hawaii, and U.S. Territories as their destination but not originating in the same state or territory. Id.

The classification changes will be made in the relevant price charts to include new columns for Zone 10 prices. See Governors' Decision No. 23-6 at 2-3. The changes are summarized below.

A. Price Changes

Prices are designed to be five percent higher than the Zone 8 prices proposed in Docket No. CP2024-52 that are intended to take effect January 2024.⁴ Id. at 1. The Zone 9 prices for USPS Ground Advantage will be increased to align with the new Zone 10 prices. Id. The Zone 10 rates apply to (1) packages originating in the Lower 48 States and destinating in Alaska, Hawaii, or the U.S. Territories; (2) packages originating in Alaska and destined to Hawaii or the U.S. Territories; (3) packages originating in Hawaii or a territory in the Pacific Ocean and destined to Alaska, Puerto Rico, or the U.S. Virgin islands; and (4) packages originating in Puerto Rico or the U.S. Virgin Islands and destined to Alaska, Hawaii, or a territory in the Pacific Ocean. Id.

⁴ See Docket No. CP2024-52, USPS Notice of Changes in Rates and Classifications of General Applicability for Competitive Products, November 15, 2023.

B. Classification Changes

References to Zone 10 will be added to the MCS Retail and Commercial Price Categories for Priority Mail Express, Priority Mail, and USPS Ground Advantage products. Id.

III. Initial Administrative Actions

The Commission establishes Docket No. CP2024-72 to consider the Postal Service's Notice. Interested persons may express views and offer comments on whether the planned changes are consistent with 39 U.S.C. 3632, 3633, and 3642, 39 CFR part 3035, and 39 CFR 3040 subparts B and E. Comments are due no later than December 15, 2023. For specific details of the planned price changes, interested persons are encouraged to review the Notice, which is available on the Commission's website at www.prc.gov.

Pursuant to 39 U.S.C. 505, Samuel J. Robinson is appointed to serve as Public Representative to represent the interests of the general public in this docket.

IV. Ordering Paragraphs

It is ordered:

1. The Commission establishes Docket No. CP2024-72 to provide interested persons an opportunity to express views and offer comments on whether the planned changes are consistent with 39 U.S.C. 3632, 3633, and 3642, 39 CFR part 3035, and 39 CFR 3040 subparts B and E.

2. Comments are due no later than December 15, 2023.

3. Pursuant to 39 U.S.C. 505, the Commission appoints Samuel J. Robinson to serve as an officer of the Commission (Public Representative) to represent the interests of the general public in this docket.

4. The Secretary shall arrange for publication of this order in the Federal Register.

By the Commission.
Erica A. Barker,
Secretary.

[FR Doc. 2023-26528 Filed 12-1-23; 8:45 am]

BILLING CODE 7710-FW-P